DEPARTMENT OF COMMERCE

National Oceanic and Atmospheric Administration

Notice of Public Meeting

SUMMARY: The Advisory Committee on Commercial Remote Sensing (ACCRES) will meet October 8, 2009.

DATES: Date and Time: The meeting is scheduled as follows: October 8, 2009, 9 a.m.-4 p.m. The first part of this meeting will be closed to the public. The public portion of the meeting will begin at 2 p.m.

ADDRESSES: The meeting will be held in the Ronald Reagan Conference Center Polaris Suite located at 1300 Pennsylvania Ave., NW., Washington, DC 20004. The public portion of the meeting may have limited seating capacity.

SUPPLEMENTARY INFORMATION: As required by section 10(a)(2) of the Federal Advisory Committee Act, 5 U.S.C. App. (1982), notice is hereby given of the meeting of ACCRES. ACCRES was established by the Secretary of Commerce (Secretary) on May 21, 2002, to advise the Secretary through the Under Secretary of Commerce for Oceans and Atmosphere on long- and short-range strategies for the licensing of commercial remote sensing satellite systems.

Matters To Be Considered

During this open public meeting, the Committee will receive updates on NOAA's Commercial Remote Sensing Regulatory Affairs (CRSRA) activities. The Committee will also be available to receive public comments on its activities.

Special Accommodations

These meetings are physically accessible to people with disabilities. Requests for special accommodations may be directed to ACCRES, NOAA/NESDIS CRSRA office, 1335 East-West Highway, Room 8260, Silver Spring, Maryland 20910.

Additional Information and Public Comments

Any member of the public wishing further information concerning the meeting or who wishes to submit oral or written comments should contact Jane D'Aguanno, Designated Federal Official for ACCRES, NOAA/NESDIS/CRSRA, 1335 East-West Highway, Room 8260, Silver Spring, Maryland 20910. Copies of the draft meeting agenda can be obtained from David Hasenauer at (301) 713-1644, fax (301) 713-0406, or e-mail crsra@noaa.gov

The ACCRES expects that public statements presented at its meetings will not be repetitive of previously-submitted oral or written statements. In general, each individual or group making an oral presentation may be limited to a total time of five minutes. Written comments (please provide at least 13 copies) received in the NOAA/NESDIS Commercial Remote Sensing Regulatory Affairs Office on or before March 31, 2009, will be provided to Committee members in advance of the meeting. Comments received too close to the meeting date will normally be provided to Committee members at the meeting.

FOR FURTHER INFORMATION CONTACT: Jane D'Aguanno, NOAA/NESDIS Commercial Remote Sensing Regulatory Affairs Office, 1335 East-West Highway, Room 8260, Silver Spring, Maryland 20910; telephone (301) 713-3385, fax (301) 713-0204, e-mail Jane.Daguanno@noaa.gov, David Hasenauer at (301) 713-1644, fax (301) 713-0406, or e-mail David.Hasenauer@noaa.gov.

Mary E. Kicza,
Assistant Administrator for Satellite and Information Service.

[FR Doc. E9-22644 Filed 9-18-09; 8:45 am]

BILLING CODE 3510-HR-P